DEPARTMENT OF ENERGY

Federal Energy Regulatory Commission

Notice of Staff Attendance at South Carolina Regional Transmission Planning Meeting

The Federal Energy Regulatory Commission (Commission) hereby gives notice that members of its staff may attend the meeting of the South Carolina Regional Planning (SCRTP) Stakeholder Group, as noted below. Their attendance is part of the Commission's ongoing outreach efforts.

SCRTP June 1, 2016 (10:00 a.m.-1:00 p.m.), SCE&G Lake Murray Training Center—Lake Murray, Lexington, SC. The facility's phone number is (803) 217-9221. The meeting is open to the public.

For more information, contact Mike Lee, Office of Energy Market Regulation, Federal Energy Regulatory Commission at (202) 502-8658 or Michael.Lee@ferc.gov.

Dated: May 19, 2016.
Kimberly D. Bose,
Secretary.

[FR Doc. 2016-12419 Filed 5-25-16; 8:45 am]

BILLING CODE 6717-01-P